DEPARTMENT OF COMMERCE

National Oceanic and Atmospheric Administration

RIN 0648-XA378

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a meeting of its Coastal Pelagic Species Management Team (CPSMT) that is open to the public.

DATES: The meeting will be held Thursday, May 5, 2011 through Friday, May 6, 2011. Business will begin the first day at 1 p.m. and at 8 a.m. the following day. The meeting will conclude each day at 5 p.m. or until business for the day is completed.

ADDRESSES: The meeting will be held in the Green Room of the National Marine Fisheries Service's Southwest Fisheries Science Center; 8604 La Jolla Shores Drive, La Jolla, CA 92037.

FOR FURTHER INFORMATION CONTACT: Kerry Griffin, Staff Officer; telephone: (503) 820-2280.

SUPPLEMENTARY INFORMATION: The primary purpose of the meeting is to develop a report to provide advice to the Pacific Council's Ecosystem Plan Development Team, in advance of the June Council meeting. Other topics may be discussed as time allows, at the discretion of the CPSMT Chair. These topics may include the mackerel Stock Assessment Review (STAR) panel meeting, CPS assessment cycle planning, a report on the April Council meeting, ecological considerations in CPS management, benchmarks for market squid, consideration of the Pacific sardine harvest control rule, and future meeting planning.

Although non-emergency issues not contained in the meeting agenda may come before the STAR Panel for discussion, those issues may not be the subject of formal action during this meeting. CPSMT action will be restricted to those issues specifically listed in this notice and any issues arising after publication of this notice that require emergency action under Section 305(c) of the Magnuson-Stevens Fishery Conservation and Management Act, provided the public has been notified of the STAR Panel's intent to take final action to address the emergency.

Special Accommodations

This meeting is physically accessible to people with disabilities. Requests for sign language interpretation or other auxiliary aids should be directed to Ms. Carolyn Porter at (503) 820-2280 at least 5 days prior to the meeting date.

Dated: April 14, 2011.
William D. Chappell,
Acting Director, Office of Sustainable Fisheries, National Marine Fisheries Service.

[FR Doc. 2011-9527 Filed 4-19-11; 8:45 am]

BILLING CODE 3510-22-P